DEPARTMENT OF ENERGY

Federal Energy Regulatory Commission

Combined Notice of Filings #2

Take notice that the Commission received the following electric corporate filings:

Docket Numbers: EC13-66-000

Applicants: Westwood Generation, LLC

Description: Application for Authorization for Disposition of Jurisdictional Facilities and Request for Expedited Action of Westwood Generation, LLC.

Filed Date: 1/22/13

Accession Number: 20130122-5192

Comments Due: 5 p.m. ET 2/12/13

Take notice that the Commission received the following electric rate filings:

Docket Numbers: ER11-4267-004; ER11-4270-004; ER11-4269-005; ER11-4268-004; ER11-113-005; ER10-2682-004; ER12-1680-002 ER11-4694-001

Applicants: Algonquin Energy Services Inc., Algonquin Windsor Locks LLC, Algonquin Tinker Gen Co., Algonquin Northern Maine Gen Co., Sandy Ridge Wind, LLC, Granite State Electric Company, Minonk Wind, LLC, GSG 6, LLC

Description: Notice of Change in Status of Algonquin Energy Services Inc., et al.

Filed Date: 1/22/13

Accession Number: 20130122-5240

Comments Due: 5 p.m. ET 2/12/13

Docket Numbers: ER13-674-001

Applicants: Midwest Independent Transmission System Operator, Inc.

Description: Midwest Independent Transmission System Operator, Inc. submits tariff filing per 35.17(b): 01-22-13 Errata re AIC ATXI Att O to be effective 1/1/2013.

Filed Date: 1/22/13

Accession Number: 20130122-5162

Comments Due: 5 p.m. ET 2/12/13

Docket Numbers: ER13-783-000

Applicants: BP Energy Company

Description: BP Energy Company submits tariff filing per 35.13(a)(2)(iii: Revised Market-Based Rate Tariff to be effective 1/23/2013.

Filed Date: 1/22/13

Accession Number: 20130122-5159

Comments Due: 5 p.m. ET 2/12/13

Docket Numbers: ER13-784-000

Applicants: Northern States Power Company, a Minnesota corporation

Description: Northern States Power Company, a Minnesota corporation submits tariff filing per 35.13(a)(2)(iii: 2013_01_22-SMMPA-LBA Meter Agrmt-540 to be effective 12/20/2012.

Filed Date: 1/22/13

Accession Number: 20130122-5174

Comments Due: 5 p.m. ET 2/12/13

Docket Numbers: ER13-785-000

Applicants: FirstEnergy Generation, LLC

Description: FirstEnergy Generation, LLC submits tariff filing per 35.13(a)(2)(iii: Revised Market Based Rate Power Sales Tariff to be effective 12/23/2012.

Filed Date: 1/22/13

Accession Number: 20130122-5182

Comments Due: 5 p.m. ET 2/12/13

Docket Numbers: ER13-786-000

Applicants: PJM Interconnection, L.L.C.

Description: PJM Interconnection, L.L.C. submits tariff filing per 35.13(a)(2)(iii: Original Service Agreement No. 3485; Queue No. W2-039 to be effective 12/21/2012.

Filed Date: 1/22/13

Accession Number: 20130122-5185

Comments Due: 5 p.m. ET 2/12/13

Docket Numbers: ER13-787-000

Applicants: PJM Interconnection, L.L.C.

Description: PJM Interconnection, L.L.C. submits tariff filing per 35.13(a)(2)(iii: Original Service Agreement No. 3487; Queue No. Y1-054 to be effective 12/21/2012.

Filed Date: 1/22/13

Accession Number: 20130122-5220

Comments Due: 5 p.m. ET 2/12/13

Docket Numbers: ER13-788-000

Applicants: J. Aron & Company

Description: J. Aron & Company submits tariff filing per 35.13(a)(2)(iii: 3rd Revised MBR to be effective 1/23/2013.

Filed Date: 1/22/13

Accession Number: 20130122-5224

Comments Due: 5 p.m. ET 2/12/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2013.
Nathaniel J. Davis, Sr.,
Deputy Secretary.

[FR Doc. 2013-02654 Filed 2-5-13; 8:45 am]

BILLING CODE 6717-01-P